FEDERAL MARITIME COMMISSION

Notice of Agreements Filed

The Commission hereby gives notice of the filing of the following agreements under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011117-032.

Title: United States/Australasia Discussion Agreement.

Parties: P&O Nedlloyd Limited; Australia-New Zealand Direct Line; Contship Containerlines; Hamburg-Sud; Compagnie Maritime Marfret, S.A.; Wallenius Wilhelmsen Lines AS; CMA CGM, S.A.; Fesco Ocean Management Limited; A.P. Moller-Maersk A/S; and Lykes Lines Limited, LLC.

Synopsis: The amendment deletes Contship Containerlines as a party to the agreement.

Agreement No.: 011275-015.

Title: Australia/United States Discussion Agreement.

Parties: Hamburg-Sud; P&O Nedlloyd Limited; Australia-New Zealand Direct Line; LauritzenCool AB; Seatrade Group NV; FESCO Ocean Management Inc.; A.P. Moller-Maersk A/S; and Lykes Lines Limited, LLC.

Synopsis: The amendment revises the parties' minimum service levels under the agreement and removes reference to Hamburg-Sud's trade name.

Agreement No.: 011407-007.

Title: Australia/United States Containerline Association.

Parties: Hamburg-Sud, P&O Nedlloyd Limited, Australia-New Zealand Direct Line, and Lykes Lines Limited, LLC.

Synopsis: The amendment removes reference to Hamburg-Sud's trade name.

Agreement No.: 011868.

Title: CSCL/NLL Cross Space Charter, Sailing and Cooperative Working agreement—AAC Service.

Parties: China Shipping Container Lines Co., Ltd. and Norasia Container Lines Limited.

Synopsis: The agreement would authorize the carriers to share vessel space in the trade between the West Coast of the United States and the Far East. The parties request expedited review.

By Order of the Federal Maritime Commission.
Dated: January 23, 2004.
Bryant L. VanBrakle,
Secretary.

[FR Doc. 04-1807 Filed 1-27-04; 8:45 am]

BILLING CODE 6730-01-P